DEPARTMENT OF COMMERCE

National Oceanic and Atmospheric Administration

[I.D. 032805A]

Atlantic Highly Migratory Species; Environmental Assessment; Exempted Fishing Permits

AGENCY: National Marine Fisheries Service (NMFS), National Oceanic and Atmospheric Administration (NOAA), Commerce.

ACTION: Notice of availability; request for comments.

SUMMARY: NMFS announces the availability of an Environmental Assessment (EA) prepared pursuant to the National Environmental Policy Act to analyze the potential impacts associated with exempting six pelagic longline vessels from existing area closures and other regulations for the purpose of evaluating whether gear modifications and/or various fishing techniques can avoid/reduce bycatch and associated regulatory discards of juvenile highly migratory species (HMS) in the Gulf of Mexico, Florida East Coast, South Atlantic Bight, Mid-Atlantic Bight, and Northeast Coastal statistical areas of the Atlantic Ocean. The EA examines alternatives available to authorize activities otherwise prohibited by regulations for the conduct of scientific research and the investigation of bycatch, consistent with the Magnuson-Stevens Fishery Conservation and Management Act (Magnuson-Stevens Act), and other relevant Federal laws. NMFS is requesting comments on the alternatives outlined in the EA.

DATES: Written comments on this action must be received no later than 5 p.m., local time, on April 11, 2005.

ADDRESSES: Copies of the EA can be obtained by contacting Heather Stirratt (see FOR FURTHER INFORMATION CONTACT) or by viewing the document online at http://www.nmfs.noaa.gov/sfa/hms/.

Comments regarding the EA and issuance of Exempted Fishing Permits (EFPs) can be submitted by any of the following methods:

• Email: ID032805A@noaa.gov. Include in the subject line the following identifier: I.D.032805A.

• Mail: Heather Stirratt, NMFS Highly Migratory Species Management Division, 1315 East-West Highway, Silver Spring, MD 20910.

• Fax: (301) 713-1917.

FOR FURTHER INFORMATION CONTACT: Heather Stirratt at (301) 713-2347.

SUPPLEMENTARY INFORMATION: EFPs are requested and issued under the authority of the Magnuson-Stevens Act (16 U.S.C. 1801 et seq.) and/or the Atlantic Tunas Convention Act (16 U.S.C. 971 et seq.). Regulations at 50 CFR 600.745 and 635.32 govern scientific research activity, exempted fishing, and exempted educational activity with respect to Atlantic HMS.

Six operators of permitted Atlantic pelagic longline vessels have requested exemptions from certain regulations applicable to the harvest and landing of HMS in order to conduct bycatch reduction research in the following regions of the Atlantic Ocean: North of Cape Hatteras, South of Cape Hatteras, and Gulf of Mexico (GOM). Specifically, the vessels propose to test gear modifications and/or various fishing techniques to avoid incidentally-caught white marlin, blue marlin, bluefin tuna, and sea turtles, while allowing for the targeted catches of allowed species.

To conclusively demonstrate the effectiveness of gear modifications, in the shortest timeframe, it is necessary to test bycatch reduction measures in those areas where pelagic longlines are most likely to encounter the bycatch species of concern (i.e., juvenile HMS). As such, it is necessary to conduct comparison experiments both inside and outside of existing closed areas. Restricted access within existing closed areas has been proposed by the applicants as terms and conditions of the proposed research in order to minimize or eliminate the potential for gear and/or fishing grounds conflicts. Within the GOM region, two pelagic longline vessels propose to conduct 100 compensated bycatch reduction fishing sets (approximately 750 hooks/set) during a limited time period (late April through September). Within the North of Cape Hatteras region, two pelagic longline vessels propose to conduct 50 compensated bycatch reduction fishing sets (approximately 680 hooks/set) during a limited time period (June through August). Within the South of Cape Hatteras region, two pelagic longline vessels propose to conduct 50 compensated bycatch reduction fishing sets (approximately 556 hooks/set) during a limited time period (late April through June).

This research may benefit all interested parties by providing fishery managers with additional gear modifications and/or fishing techniques that reduce or avoid incidental capture/bycatch mortality of HMS in the research areas as proposed above.

The regulations that would prohibit the proposed activities include requirements for size limits (50 CFR 635.20), commercial retention limits for sharks and swordfish (50 CFR 635.24), and definitions as they apply to closed areas (50 CFR 635.2).

NMFS invites comments from interested parties on potential concerns should these EFPs be issued. Copies of the EA are now available for review and comment (see ADDRESSES).

Authority: 16 U.S.C. 971 et seq. and 16 U.S.C. 1801 et seq.

Dated: March 30, 2005.
Alan D. Risenhoover,
Acting Director, Office of Sustainable Fisheries, National Marine Fisheries Service.

[FR Doc. 05-6598 Filed 3-30-05; 1:47 pm]

BILLING CODE 3510-22-S